DEPARTMENT OF JUSTICE

Notice of Lodging of Proposed Consent Decree Under the Clean Air Act

On August 10, 2018, the Department of Justice lodged a proposed consent decree with the United States District Court for the Southern District of Illinois in the lawsuit entitled United States and Illinois v. WRB Refining LP, et al., Civil Action No. 3:18-cv-01484.

In the complaint filed contemporaneously with the proposed consent decree, the United States and Illinois alleged that defendants WRB Refining LP and Phillips 66 Company (“WRB/P66”) violated various provisions of the Clean Air Act and the Illinois Environmental Protection Act at a refinery owned and operated by defendants in Roxana and Hartford, Illinois (“Wood River Refinery”). The complaint sought injunctive relief and civil penalties. Under the proposed consent decree, WRB/P66 will implement a flare minimization and flare efficiency program to reduce emissions of volatile organic compounds; undertake a variety to practices to reduce pollution from valves and pumps; limit benzene emissions from wastewater management units; and develop and implement an operation and maintenance plan to improve the operation of the continuous emissions monitoring systems at the Wood River Refinery. As mitigation for past excess emissions, WRB/P66, among other things, will install a new vacuum truck unloading facility; set up monitoring devices around its wastewater treatment plant; and use low emissions valves when it has to replace older valves or install new ones. WRB/P66 will also implement a $500,000 supplemental environmental project to abate lead paint hazards at qualifying homes and buildings and pay a civil penalty of $475,000.

The publication of this notice opens a period for public comment on the consent decree. Comments should be addressed to the Assistant Attorney General, Environment and Natural Resources Division, and should refer to United States and Illinois v. WRB Refining LP, et al., D.J. Ref. No. 90-5-2-1-06722/6. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $56.75 (25 cents per page reproduction cost) payable to the United States Treasury.

Randall M. Stone,
Acting Assistant Section Chief, Environmental Enforcement Section, Environment and Natural Resources Division.

[FR Doc. 2018-17637 Filed 8-15-18; 8:45 am]

BILLING CODE 4410-15-P